DEPARTMENT OF ENERGY

Federal Energy Regulatory Commission

[Docket No. RM96-1-015, et al.]

Standards for Business Practices of Interstate Natural Gas Pipeline; Notice of Compliance Filing

April 4, 2001.

Docket numbers: RP01-290-000, RP01-289-000, RP01-297-000, RP01-295-000, RP01-339-000, RP01-294-000, RP01-334-000, RP01-300-000, RP01-284-000, RP01-342-000, RP01-345-000, RP01-331-000, RP01-322-000, RP01-303-000, RP01-346-000, RP01-360-000, RP01-349-000, RP01-324-000, RP01-282-000, RP01-367-000, RP01-302-000, RP01-343-000, RP01-326-000, RP01-340-000, RP01-309-000, RP01-308-000, RP01-352-000, RP01-313-000, RP01-285-000, RP01-299-000, RP01-306-000, RP01-325-000, RP01-358-000, RP01-287-000, RP01-286-000, RP01-338-000, RP01-301-000, RP01-369-000, RP01-283-000, RP01-336-000, RP01-327-000, RP01-304-000, RP01-288-000, RP01-366-000, RP01-277-000, RP01-307-000, RP01-337-000, RP01-344-000, RP01-357-000, RP01-347-000, RP01-329-000, RP01-368-000, RP01-341-000, RP01-354-000, RP01-321-000, RP01-351-000, RP01-296-000, RP01-311-000, RP01-310-000, RP01-363-000, RP01-291-000, RP01-328-000, RP01-335-000, RP01-365-000, RP01-356-000, RP01-353-000, RP01-333-000, RP01-312-000, RP01-362-000, RP01-319-000, RP01-348-000, RP01-364-000, RP01-318-000, RP01-280-000, RP01-281-000, (Not Consolidated); Algonquin LNG, Inc., Algonquin Gas Transmission Company, ANR Pipeline Company, ANR Storage Company, Black Marlin Pipeline Company, Blue Lake Gas Storage Company, Canyon Creek Compression Company, Clear Creek Storage Company, L.L.C., Colorado Interstate Gas Company, Columbia Gulf Transmission Corporation, Columbia Gas Transmission Corporation, Cove Point LNG Limited Partnership, Dauphin Island Gathering Partners, Destin Pipeline Company, L.L.C., Discovery Gas Transmission LLC, Dominion Transmission, Inc., East Tennessee Natural Gas Company, Egan Hub Partners, L.P., El Paso Natural Gas Company, Florida Gas Transmission Company, Garden Banks Gas Pipeline, LLC, Granite State Gas Transmission Inc., Great Lakes Gas Transmission Limited Partnership, Gulf South Pipeline Company, LP, Gulf States Transmission Corporation, High Island Offshore System, L.L.C., Iroquois Gas Transmission System, L.P., K N Wattenberg Limited Liability Company, Kansas Pipeline Company, Kern River Gas Transmission Company, Kinder Morgan Interstate Gas Transmission LLC, Maritimes & Northeast Pipeline L.L.C., Michigan Gas Storage Company, Mid Louisiana Gas Company, Midcoast Interstate Transmission, Inc., Midwestern Gas Transmission Company, Mississippi Canyon Gas Pipeline, LLC, Mississippi River Transmission Corporation, Mojave Pipeline Company, National Fuel Gas Supply Corporation, Natural Gas Pipeline Company of America, Nautilus Pipeline Company, L.L.C., Northern Border Pipeline Company, Northern Natural Gas Company, Northwest Pipeline Company, Overthrust Pipeline Company, Ozark Gas Transmission, L.L.C., Paiute Pipeline Company, Panhandle Eastern Pipe Line Company, Petal Gas Storage Company, Questar Pipeline Company, Reliant Energy Gas Transmission Company, Sabine Pipe Line LLC, Sea Robin Pipeline Company, Southern Natural Gas Company, Southwest Gas Storage Company, Steuben Gas Storage Company, Stingray Pipeline Company, Tennessee Gas Pipeline Company, Texas Gas Transmission Corporation, Texas Eastern Transmission Corporation, Trailblazer Pipeline Company, TransColorado Gas Transmission Company, Transwestern Pipeline Company, Trunkline Gas Company, Trunkline LNG Company, Tuscarora Gas Transmission Co., U-T Offshore System, L.L.C., Venice Gathering System, L.L.C., Viking Gas Transmission Company, WestGas InterState, Inc., Williams Gas Pipelines Central, Inc., Williston Basin Interstate Pipeline Company, Wyoming Interstate Company, Ltd., Young Gas Storage Company, Ltd.

Take notice that the above-referenced pipelines made filings in compliance with Docket No. RM96-1-015, Order No. 587-M.¹ The tariff sheets implement Version 1.4 of the Gas Industry Standards Board (GISB) Standards accepted by the Commission in Order No. 587-M and are proposed to become effective May 1, 2001.

¹ Standards for Business Practices of Interstate Natural Gas Pipelines, Order No. 587-M, 65 FR 77285 (Dec. 11, 2000), FERC Stats. & Regs. Regulations Preambles [Jul. 1996-Dec. 2000] ¶31,114 (Nov. 30, 2000).

On November 30, 2000 at Docket No. RM96-1-015, the Commission issued Order No. 587-M to amend § 284.12(b) of its regulations to incorporate Version 1.4 of the GISB standards. The business practices and standards contained in Order 587-M make additions and revisions to Version 1.3 of the standards, which had previously been incorporated by reference. Among other things, Order No. 587-M adopted the business practices and electronic communications standards created by GISB on August 31 and November 15, 1999. Order No. 587-M requires pipelines to adopt Version 1.4 of the GISB Standards and to implement these provisions by May 1, 2001.

Any person desiring to become a party a proceeding must file a separate motion to intervene or protest in each docket.

Any person desiring to be heard or to protest said filings should file a motion to intervene or a protest with the Federal Energy Regulatory Commission, 888 First Street, NE., Washington, DC 20426, in accordance with §§ 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385,2001(a)(1)(iii) and the instructions on the Commission's web site at http://www.ferc.fed.us/efi/doorbell.htm.

David P. Boergers,
Secretary.

[FR Doc. 01-8794 Filed 4-9-01; 8:45 am]

BILLING CODE 6717-01-M